NUCLEAR REGULATORY COMMISSION

[Docket Nos. 50-361 and 50-362]

Southern California Edison Company, San Onofre Nuclear Generating Station, Units 2 and 3; Notice of Withdrawal of Application for Amendments to Facility Operating Licenses

The U.S. Nuclear Regulatory Commission (the Commission) has granted the request of Southern California Edison (licensee) to withdraw its January 19, 2000, application, for proposed amendments to Facility Operating Licenses No. NPF-10 and NPF-15 for the San Onofre Nuclear Generating Station, Units 2 and 3 respectively, located in San Diego County, California.

The proposed amendments would have modified facility Technical Specification Surveillance Requirement 3.0.3.

The Commission had previously issued a Notice of Consideration of Issuance of Amendment published in the Federal Register on April 19, 2000 (65 FR 21038). However, by letter dated January 4, 2001, the licensee withdrew the proposed change.

For further details with respect to this action, see the application for amendments dated January 19, 2000, and the licensee's letter dated January 4, 2001, which withdrew the application for license amendments. These documents may be examined, and/or copied for a fee, at the NRC's Public Document Room, located at One White Flint North, 11555 Rockville Pike (first floor), Rockville, Maryland. Publicly available records will be accessible electronically from the ADAMS Public Library component on the NRC Web site (the Electronic Reading Room).

For the Nuclear Regulatory Commission.
Dated at Rockville, Maryland, this 18th day of January, 2001.
L. Raghavan,
Senior Project Manager, Section 2, Project Directorate IV & Decommissioning, Division of Licensing Project Management, Office of Nuclear Reactor Regulation.

[FR Doc. 01-2373 Filed 1-25-01; 8:45 am]

BILLING CODE 7590-01-P